DEPARTMENT OF TRANSPORTATION

Federal Motor Carrier Safety Administration

Qualification of Drivers; Exemption Applications; Diabetes

AGENCY: Federal Motor Carrier Safety Administration (FMCSA), DOT.

ACTION: Notice of denials.

SUMMARY: FMCSA announces its denial of 189 applications from individuals who requested an exemption from the Federal diabetes standard applicable to interstate truck and bus drivers and the reasons for the denials. FMCSA has statutory authority to exempt individuals from the diabetes requirement if the exemptions granted will not compromise safety. The Agency has concluded that granting these exemptions does not provide a level of safety that will be equivalent to, or greater than, the level of safety maintained without the exemptions for these commercial motor vehicle (CMV) drivers.

FOR FURTHER INFORMATION CONTACT: Dr. Mary D. Gunnels, Director Medical Programs, 202-366-4001, U.S. Department of Transportation, FMCSA, 1200 New Jersey Avenue, SE., Room W64-224, Washington, DC 20590-0001. Office hours are from 8:30 a.m. to 5 p.m. Monday through Friday, except Federal holidays.

SUPPLEMENTARY INFORMATION:

Background

Under 49 U.S.C. 31136(e) and 31315, FMCSA may grant an exemption from the Federal diabetes standard for a renewable 2-year period if it finds “such an exemption would likely achieve a level of safety that is equivalent to, or greater than, the level that would be achieved absent such an exemption.” The procedures for requesting an exemption are set out in 49 CFR part 381.

Accordingly, FMCSA evaluated 189 individual exemption requests on their merits and made a determination that these applicants do not satisfy the criteria eligibility or meet the terms and conditions of the Federal exemption program. Each applicant has, prior to this notice, received a letter of final disposition on his/her exemption request. Those decision letters fully outlined the basis for the denial and constitute final Agency action. The list published today summarizes the Agency's recent denials as required under 49 U.S.C. 31315(b)(4) by periodically publishing names and reasons for denials.

The following 24 applicants lacked sufficient driving experience during the 3-year period prior to the date of their application: Brian J. Carew, Michael R. Castle, Brandon W. Cazier, Gary C. Christensen, Stephen G. Corbett, Boyd A. Dorris, Rex C. Ewen, Frank L. Fernald, Gary J. Flynn, James F. Gaab, Timothy L. Goodman, Charles T. Hankel, Jr., Gerald P. Hansen, Kory L. Johansen, Franklin P. Kingston, Linda L. Koenig-Warren, William L. Leichner, Gregory A. Leisgang, Wayne Martens, Thomas J. Martin, David McClaflin, Tommie A. Monroe, Wayne Ruhmann, Jay W. Slepner.

The following 3 applicants had unacceptable driving performance during the 3-year review period: Drew R. Begin, Ken Greer, Charles E. Williams.

Section 4129 of the Safe, Accountable, Flexible, Efficient Transportation Equity Act—A legacy for Users (SAFETEA-LU), which was signed into law on August 16, 2005, established several programmatic changes which included the elimination of the requirement for three years of experience operating CMVs. To address this, FMCSA immediately discontinued the use of the 3-year criterion for diabetic drivers and notified all applicants who had been denied because they did not meet this criterion and encouraged them to reapply.

The following 7 applicants had unacceptable diabetic conditions: Joseph G. Corsaro, Jeffrey S. Hanson, James L. Mays, Dean A. Sewell, Ruth P. Stanley, Joseph Thomas, Jr., Leonard D. Walters.

The following 17 applicants submitted false information and/or did not have an endocrinologist willing to state that they could operate a CMV from a diabetes standpoint: Tavis Boyd, George D. Buber, Richard E. Crum, Rhonda T. Dominick, Russell Forsman, Alfred Gjaltema, Nolan O. Good, Denis A. Hall, Randy A. Hicks, David G. Kagdis, Daniel E. Lindberg, George H. Morton, Jr., Ricky D. Pryor, Thomas E. Richards, William C. Sexton, Jr., George S. Thompson, Jr., James E. Yocum.

The following 36 applicants currently meet the diabetes requirements of 49 CFR 391.41(b)(3) as they were not taking insulin: Charles G. Barnes, Randy L. Bear, Charles A. Best, Jonathan M. Bona, Daniel G. Brinkman, Joseph K. Campbell, Philip Capozzo, Dennis J. Dallmann, Richard W. DeSollar, Anthony W. Dick, Andrew Floyd, Leroy Foster, Richard F. Griffith, Gervis E. Hentz, Kia C. Jackson, Eugene F. Jackson, Shirley A. Kemp, Larry D. Kuhuski, Franklin P. Laner, Sr., Alex Madrid, Clifford A. McPherson, Murl L. Moore, John C. Nickles, Donald A. Peterman, Baylis C. Pope, Roger N. Raley, Timothy J. Rockwell, Jerry L. Ruffin, Layman J. Sherman, Victor A. Sutter, Mark A. Tidwell, Ophelia Toledo, James R. Tschida, Edward A. Vasey, George P. Ward, Jr.

The following 19 applicants have either had more than one severe hypoglycemic episode which resulted in loss of consciousness, required hospitalization or the assistance of others, involved a period of impaired cognitive function that occurred without warning or have had one such episode but have not had 1 year of stability following the episode: Jerry L. Allen, Warren W. Braunschweig, Bobby A. Cole, Nancy Courtney, Timothy J. Crawshaw, Eddie D. Daugherty, Matthew J. Dombrowski, Richard Donald, Andrew J. Dreyer, Tony L. Gazaway, Glenn A. Kotzer, Stephen P. Larson, Lawrence E. Olson, Joseph W. Paolasini, Richard O. Price, Melvin J. Slone, Gary L. Sorensen, Graydon R. Stone, Stanley C. Tarvidas.

The following 55 applicants have other medical conditions making them otherwise unqualified under the Federal Motor Carrier Safety Regulations. All applicants must meet all other physical qualifications standards in 49 CFR 391.41(b)(1-13) or hold a valid exemption: David A. Arnett, Kristina M. Baker, Robert U. Ballard, William J. Bernhard, Herber A. Bertsche, Preston S. Brown, Daniel E. Bruggeman, Richard G. Callihan, Ronald Carter, Michael G. Deschenes, Gary L. Doman, Dennis C. Doyle, Henry L. Estrada, Sr., Harry W. Fersch, III, George F. Fry, Donald M. Gerber, Orlando Gonzalez, Robert F. Hansen, Leonard C. Jackson, Quency T. Johnson, Samuel E. Johnson, Jr., Ronald C. Jones, Stephen G. Kelly, Henrietta M. Ketcham, Leonard J. LaChance, Todd P. Larrow, Daryl C. Lenz, Gary F. Lucey, John E. Mawn, Harold G. McCusker, Willie McDaniel, Anthony R. Messina, Donald L. Miller, Richard E. Moore, Roland J. Mroz, Robert L. Mullinax, Karl F. Murhammer, Jr., Harry E. North, Michael W. Pelley, Richard E. Peterson, James C. Plumley, Albert L. Robinson, Gary M. Rooney, Temistocles E. Sanchez, Winston C. Saxon, Steven A. Shinall, Barry A. Shockey, Steven Simione, Rodney L. Stoltenberg, Rocky W. Tyler, Theodore L. Welson, Milton J. Williams, Leroy C. Williams, Anthony F. Wooten, Martin Wright, Jr.

The following 3 applicants were denied for miscellaneous/multiple reasons: Brian F. Beebe, Kevin A. Mitchell, Steve Morris.

The following 5 applicants were unable to or not willing to demonstrate proper management and monitoring of his/her diabetes whether by personal decision or medical inability: Ray G. Barker, Ronald J. Herd, Douglas A. Galanius, Francis T. Flood, Dana R. Ward.

One applicant, Fred A. Taylor, did not submit the required documents.

The following 2 applicants were Canadian applicants: Norman S. Peltzer, Kevin R. Durham.

Finally, the following 17 applicants did not meet the minimum age requirement of at least 21 years old: Matthew S. Buckner, Dustin G. Cook, Jordan S. Denley, John K. Funkhouser, Michael J. Guido, Cody H. Heckemeyer, Cameron D. Hubbard, Troy M. Keller, Timothy L. Koehn, Justin T. Mattice, Justine Oyler, Thomas J. Paulus, Russell L. Peters, James W. Smith, Suzanne J. Sublaban, Cory A. Thomas, Justin K. Zimmerschied.

Issued on: August 20, 2009.
Larry W. Minor,
Associate Administrator for Policy and Program Development.

[FR Doc. E9-20624 Filed 8-25-09; 8:45 am]

BILLING CODE 4910-EX-P